COMMITTEE FOR PURCHASE FROM PEOPLE WHO ARE BLIND OR SEVERELY DISABLED

Procurement List Additions and Deletions

AGENCY: Committee for Purchase From People Who Are Blind or Severely Disabled.

ACTION: Additions to and Deletions from Procurement List.

SUMMARY: This action adds to the Procurement List services to be furnished by nonprofit agencies employing persons who are blind or have other severe disabilities, and deletes from the Procurement List products previously furnished by such agencies.

Effective Date: March 30, 2009.

ADDRESSES: Committee for Purchase From People Who Are Blind or Severely Disabled, Jefferson Plaza 2, Suite 10800, 1421 Jefferson Davis Highway, Arlington, Virginia, 22202-3259.

FOR FURTHER INFORMATION CONTACT: Barry S. Lineback, Telephone: (703) 603-7740, Fax: (703) 603-0655, or e-mail CMTEFedReg@AbilityOne.gov.

SUPPLEMENTARY INFORMATION:

Additions

On 12/19/2008 and 1/05/2009, the Committee for Purchase From People Who Are Blind or Severely Disabled published notices (FR Vol. 73, No. 245 and FR Vol. 74 No. 2) of proposed additions to the Procurement List.

After consideration of the material presented to it concerning capability of qualified nonprofit agencies to provide the product(s) and/or service(s) and impact of the additions on the current or most recent contractors, the Committee has determined that the product(s) and/or service(s) listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the services to the Government.

2. The action will result in authorizing small entities to furnish the services to the Government.

3. There are no known regulatory alternatives which would accomplish the objectives of the Javits-Wagner-O'Day Act (41 U.S.C. 46-48c) in connection with the services proposed for addition to the Procurement List.

End of Certification

Accordingly, the following services are added to the Procurement List:

Services

Service Type/Location: Grounds Maintenance, MCLB, Albany, GA, Marine Corps Logistics Base, Albany, GA.

NPA: Power Works Industries, Inc., Columbus, GA.

Contracting Activity: DEPT OF THE NAVY, COMMANDER, Albany, GA.

Service Type/Location: Operation of Postal Service Center, Fort Riley, 802 Marshall Loop, Fort Riley, KS.

NPA: Skookum Educational Programs, Bremerton, WA.

Contracting Activity: DEPT OF THE ARMY, XR W6BA ACA FT RILEY.

Deletions

On 11/21/2008 and 12/19/2008, the Committee for Purchase From People Who Are Blind or Severely Disabled published notice (FR Vol. 73, No. 226 and FR Vol. 73, No. 245) of proposed deletions from the Procurement List.

After consideration of the relevant matter presented, the Committee has determined that the products listed below are no longer suitable for procurement by the Federal Government under 41 U.S.C. 46-48c and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products to the Government.

3. There are no known regulatory alternatives which would accomplish the objectives of the Javits-Wagner-O'Day Act (41 U.S.C. 46-48c) in connection with the products deleted from the Procurement List.

End of Certification

Products:

NSN: 6840-00-935-9813—Disinfectant-Detergent, General Purpose.

NSN: 6840-00-926-1686—Disinfectant-Detergent, General Purpose.

NPA: Lighthouse for the Blind, St. Louis, MO.

Contracting Activity: GSA/FAS SOUTHWEST SUPPLY CENTER (QSDAC), FORT WORTH, TX.

NSN: 7510-01-510-4867—Binder, Loose-leaf, (Pressboard).

NSN: 7510-01-510-4862—Binder, Loose-leaf, (Pressboard).

NSN: 7510-01-510-4863—Binder, Loose-leaf, (Pressboard).

NSN: 7510-01-510-4861—Binder, Loose-leaf, (Pressboard).

NSN: 7510-01-510-4872—Binder, Loose-leaf, (Pressboard).

NSN: 7510-01-510-4864—Binder, Loose-leaf, (Pressboard).

NSN: 7510-01-510-4868—Binder, Loose-leaf, (Pressboard).

NSN: 7510-01-510-4870—Binder, Loose-leaf, (Pressboard).

NPA: Georgia Industries for the Blind, Bainbridge, GA.

Contracting Activity: GSA/FSS OFC SUP CTR—PAPER PRODUCTS, NEW YORK, NY.

NSN: 7520-01-507-6974—Markers, Lumocolor, Permanent.

NSN: 7520-01-392-5296—Markers, Lumocolor, Permanent.

NSN: 7520-01-507-6972—Markers, Lumocolor, Permanent.

NSN: 7520-01-392-5295—Markers, Lumocolor, Permanent.

NSN: 7520-01-507-6965—Markers, Lumocolor, Non-Permanent.

NSN: 7520-00-422-5769—Markers, Lumocolor, Non-Permanent.

NSN: 7520-01-507-6963—Markers, Lumocolor, Non-Permanent.

NSN: 7520-01-507-6958—Markers, Lumocolor, Non-Permanent.

NPA: Winston-Salem Industries for the Blind, Winston-Salem, NC.

Contracting Activity: GSA/FSS OFC SUP CTR—PAPER PRODUCTS, NEW YORK, NY.

NSN: 7045-01-372-8269—Tape, Electronic Data Processing.

NPA: North Central Sight Services, Inc., Williamsport, PA.

Contracting Activity: DEFENSE SUPPLY CENTER COLUMBUS, COLUMBUS, OH.

Barry S. Lineback,
Director, Program Operations.

[FR Doc. E9-4242 Filed 2-26-09; 8:45 am]

BILLING CODE 6353-01-P